NATIONAL ARCHIVES AND RECORDS ADMINISTRATION

[NARA-2025-004]

Advisory Committee on the Records of Congress; Meeting

AGENCY: National Archives and Records Administration (NARA).

ACTION: Notice of Federal advisory committee meeting.

SUMMARY: We are announcing an upcoming meeting of the Advisory Committee on the Records of Congress in accordance with the Federal Advisory Committee Act. The committee advises NARA on the full range of programs, policies, and plans for the Center for Legislative Archives in the Office of Public Museum Engagement and Legislative Archives.

DATES: The meeting will be on October 29, 2024, from 2 p.m. EDT.

ADDRESSES: The meeting will be virtual.

FOR FURTHER INFORMATION CONTACT: James Wyatt, National Archives, Center for Legislative Archives, by email at James.Wyatt@nara.gov or by phone at 202-357-5016.

SUPPLEMENTARY INFORMATION: This virtual meeting is open to the public in accordance with the Federal Advisory Committee Act (5 U.S.C. app 2) and implementing regulations.

Meeting Information

Join link: https://senate.webex.com/senate/j.php?MTID=m88b50482d2bb81c164c41bd3d323038e.

Meeting number: 2828 845 7477.

Meeting password: 9uRyNBJDu32 (98796253 when dialing from a video system).

Join by phone: +1 202-228-0808 US Senate Webex. +1 855-428-0808 US Senate Webex (Toll Free).

Access code: 282 884 57477.

Agenda

1. Opening Remarks—Ann Berry, Secretary of the Senate

2. Recognition of Co-Chair—Kevin McCumber, Acting Clerk of the House

3. Recognition of the Archivist of the United States—Colleen Shogan

4. Approval of the Minutes of the Last Meeting

5. New Business

6. Adjournment

Merrily Harris,
Committee Management Officer.

[FR Doc. 2024-24909 Filed 10-24-24; 8:45 am]

BILLING CODE 7515-01-P